DEPARTMENT OF HEALTH AND HUMAN SERVICES

Centers for Disease Control and Prevention

Disease, Disability, and Injury Prevention and Control Special Emphasis Panel (SEP)—PAR 20-280, Cooperative Research Agreements Related to the World Trade Center Health Program (U01); RFA-OH-24-002, Exploratory/Developmental Grants on Lifestyle Medicine Research Related to the World Trade Center Health Program (R21); RFA-OH-24-003, Exploratory/Developmental Grants Related to the World Trade Center Survivors (R21—No Applications With Responders Accepted); and RFA-OH-24-004, World Trade Center Health Program Mentored Research Scientist Career Development Award (K01); Cancellation of Meeting

AGENCY: Centers for Disease Control and Prevention, Department of Health and Human Services.

ACTION: Notice.

SUPPLEMENTARY INFORMATION: Notice is hereby given of a change in the meeting of the Disease, Disability, and Injury Prevention and Control Special Emphasis Panel (SEP)—PAR 20-280, Cooperative Research Agreements Related to the World Trade Center Health Program (U01); RFA-OH-24-002, Exploratory/Developmental Grants on Lifestyle Medicine Research Related to the World Trade Center Health Program (R21); RFA-OH-24-003, Exploratory/Developmental Grants Related to the World Trade Center Survivors (R21—No Applications with Responders Accepted); and RFA-OH-24-004, World Trade Center Health Program Mentored Research Scientist Career Development Award (K01); March 19-21, 2024, 11 a.m.-6 p.m., EDT, video-assisted meeting, in the original Federal Register notice. The meeting notice was published in the Federal Register on December 20, 2023, Volume 88, Number 243, pages 88082-88083.

This meeting is being canceled in its entirety.

FOR FURTHER INFORMATION CONTACT: Laurel Garrison, M.P.H., Scientific Review Officer, Office of Extramural Programs, National Institute for Occupational Safety and Health, Centers for Disease Control and Prevention, 5555 Ridge Avenue, Cincinnati, Ohio 45213. Telephone: (513) 533-8324; Email: LGarrison@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-06304 Filed 3-25-24; 8:45 am]

BILLING CODE 4163-18-P